DEPARTMENT OF LABOR

Employment and Training Administration

[TA-W-51,275]

State of Alaska Commercial Fisheries Entry Commission, Permit Number SO4T65905; Dillingham, AK; Notice of Revised Determination on Reconsideration

By letter of April 25, 2003, the company official requested administrative reconsideration of the Department's Negative Determination Regarding Eligibility for Workers under State of Alaska Commercial Fisheries Entry Commission Permit Number SO4T65905, Dillingham, Alaska, to Apply for Worker Adjustment Assistance. The notice was published in the Federal Register on April 29, 2003 (68 FR 16834).

The initial petition was denied because there had been no employment decline. The company official however has provided information showing that workers are no longer producing salmon under State of Alaska Commercial Fisheries Entry Commission, Permit Number SO4T65905, Dillingham, Alaska. All workers have been separated.

The salmon processor to which the subject firm sold its salmon is no longer in business. Workers of the salmon processor are certified eligible to apply for adjustment assistance.

Conclusion

After careful review of the facts obtained in the reconsideration, I determine that workers covered by State of Alaska Commercial Fisheries Entry Commission, Permit Number SO4T65905, Dillingham, Alaska, qualify as adversely affected secondary workers under Section 222 of the Trade Act of 1974, as amended.

In accordance with the provisions of the Act, I make the following revised determination:

All workers of State of Alaska Commercial Fisheries Entry Commission, Permit Number SO4T65905, Dillingham, Alaska, who became totally or partially separated from employment on or after March 21, 2002, through two years from the date of certification, are eligible to apply for adjustment assistance under Section 223 of the Trade Act of 1974.

Signed in Washington, DC, this 26th day of August, 2003.
Linda G. Poole,
Certifying Officer, Division of Trade Adjustment Assistance.

[FR Doc. 03-24702 Filed 9-29-03; 8:45 am]

BILLING CODE 4510-30-U